INTERNATIONAL TRADE COMMISSION

[Investigation No. 337-TA-1013]

Certain Potassium Chloride Powder Products; Commission Determination Not To Review an Initial Determination Granting Joint Motion To Terminate the Investigation Based Upon Settlement; Termination of the Investigation

AGENCY: U.S. International Trade Commission.

ACTION: Notice.

SUMMARY: Notice is hereby given that the U.S. International Trade Commission has determined not to review an initial determination (“ID”) (Order No. 10) of the presiding administrative law judge (“ALJ”) granting a joint motion to terminate the investigation based upon settlement. The investigation is terminated.

FOR FURTHER INFORMATION CONTACT: Houda Morad, Office of the General Counsel, U.S. International Trade Commission, 500 E Street SW., Washington, DC 20436, telephone (202) 708-4716. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1013 on July 27, 2016, based on a complaint filed by Complainants Lehigh Valley Technologies, Inc. of Allentown, Pennsylvania; Endo Global Ventures of Hamilton, Bermuda; Endo Ventures Limited, of Dublin, Ireland; and Generics Bidco I, LLC (d/b/a Qualitest Pharmaceuticals and Par Pharmaceutical) of Huntsville, Alabama (collectively, “Complainants”). See 81 FR 49263 (July 27, 2016). The complaint alleges violations of section 337 of the Tariff Act of 1930, as amended (19 U.S.C. 1337), based upon the importation into the United States, or the sale of certain potassium chloride powder products by reason of false advertising, the threat or effect of which is to destroy or substantially injure an industry in the United States. See id. The notice of investigation identified Viva Pharmaceutical Inc. of Richmond, British Columbia, Canada; Virtus Pharmaceuticals, LLC of Tampa, Florida; and Virtus Pharmaceuticals OPCO II, LLC, of Nashville, Tennessee (collectively, “Respondents”) as respondents in this investigation. See id. The Office of Unfair Import Investigations is also a party to this investigation. See id.

On November 18, 2016, Complainants and Respondents (collectively, “the Private Parties”) filed a joint motion to terminate the investigation based upon settlement (“Joint Motion”). On November 30, 2016, the Commission Investigative Attorney filed a response in support of the Joint Motion.

On December 19, 2016, the ALJ issued a corrected initial determination (“ID”) (Order No. 10) granting the Joint Motion. As noted in the ID, the Private Parties “state[d] that `there are no other agreements, written or oral, express or implied between Complainants and Respondents concerning the subject matter of this Investigation' other than the documents submitted with the Joint Motion.” See ID at 1-2. The ALJ further noted that the Private “Parties have attached both public and confidential versions of their Settlement Agreement” to the Joint Motion. See id. at 4. The ALJ also considered the public interest under Commission Rule 210.50(b)(2), 19 CFR 210.50(b)(2) and determined that termination was not contrary to the public interest. See id.

No party has filed a petition for review of the subject ID.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: January 6, 2017.
Lisa R. Barton,
Secretary to the Commission.

[FR Doc. 2017-00424 Filed 1-10-17; 8:45 am]

BILLING CODE 7020-02-P